DEPARTMENT OF COMMERCE

National Oceanic and Atmospheric Administration

[RTID 0648-XB451]

Fisheries of the South Atlantic; South Atlantic Fishery Management Council; Public Meeting

AGENCY: National Marine Fisheries Service (NMFS), National Oceanic and Atmospheric Administration (NOAA), Commerce.

ACTION: Joint meeting of the South Atlantic Fishery Management Council's Citizen Science Operations and Projects Advisory Committees via webinar.

SUMMARY: The South Atlantic Fishery Management Council (Council) will hold a joint meeting of its Citizen Science Operations and Projects Advisory Committees via webinar on November 1, 2021.

DATES: The Citizen Science Operations and Projects Advisory Committees joint meeting will be held via webinar on Monday, November 1, 2021 from 1 p.m. until 4 p.m.

ADDRESSES:

Meeting address: The meeting will be held via webinar. The webinar is open to members of the public. Those interested in participating should contact Julia Byrd (see FOR FURTHER INFORMATION CONTACT) to request an invitation providing webinar access information. Please request webinar invitations at least 24 hours in advance of each webinar. There will be an opportunity for public comment at the beginning of the meeting.

Council address: South Atlantic Fishery Management Council, 4055 Faber Place Drive, Suite 201, N Charleston, SC 29405.

FOR FURTHER INFORMATION CONTACT: Julia Byrd, Citizen Science Program Manager, SAFMC; phone: (843) 302-8439 or toll free: (866) SAFMC-10; fax: (843) 769-4520; email: julia.byrd@safmc.net.

SUPPLEMENTARY INFORMATION: The Citizen Science Operations and Projects Advisory Committees serve as advisors to the Council's Citizen Science Program. Operations Committee members include representatives from the Council's Citizen Science Advisory Panel, NOAA Fisheries' Southeast Regional Office, NOAA Fisheries' Southeast Fisheries Science Center, and the Council's Science and Statistical Committee. Their responsibilities include developing programmatic recommendations, reviewing policies, providing program direction/multi-partner support, identifying citizen science research needs, and providing general advice. Projects Advisory Committee members include representatives from the Council's fishery Advisory Panels (AP), Habitat & Ecosystem AP, and Outreach & Communication AP. Their responsibilities include identifying citizen science research and data needs across all the Council's fishery management plans; assisting with development of volunteer engagement strategies for recruiting, training, retaining, and communicating with volunteers; and serving as outreach ambassadors for the Program. Agenda items include:

1. Review and update the Council's citizen science research priorities

2. Citizen Science Program Update and

3. Other Business

Special Accommodations

The meeting is physically accessible to people with disabilities. Requests for auxiliary aids should be directed to the Council office (see ADDRESSES) 3 days prior to the meeting.

Note: The times and sequence specified in this agenda are subject to change.

Authority: 16 U.S.C. 1801 et seq.

Dated: October 12, 2021.
Tracey L. Thompson,
Acting Deputy Director, Office of Sustainable Fisheries, National Marine Fisheries Service.

[FR Doc. 2021-22558 Filed 10-15-21; 8:45 am]

BILLING CODE 3510-22-P